DEPARTMENT OF THE INTERIOR

Fish and Wildlife Service

[FWS-R9-FHC-2008-N0271; 71490-1351-0000-L5]

Letters of Authorization To Take Marine Mammals

AGENCY: Fish and Wildlife Service, Interior.

ACTION: Notice of issuance.

SUMMARY: In accordance with the Marine Mammal Protection Act of 1972 (MMPA) as amended, notice is hereby given that Letters of Authorization to take Pacific walruses and polar bears incidental to oil and gas industry exploration activities in the Chukchi Sea and adjacent western coast of Alaska have been issued.

FOR FURTHER INFORMATION CONTACT: Mr. Craig Perham at the Fish and Wildlife Service, Marine Mammals Management Office, 1011 East Tudor Road, Anchorage, Alaska 99503, (800) 362-5148 or (907) 786-3810.

SUPPLEMENTARY INFORMATION: A Letter of Authorization has been issued to the following companies in accordance with Fish and Wildlife Service Federal Rules and Regulations (see “Marine Mammals; Incidental Take During Specified Activities” at 73 FR 33212; June 11, 2008) under section 101(a)(5)(A) of the MMPA and the Fish and Wildlife Service implementing regulations at 50 CFR 18.27(f)(3):

Letters of Authorization for 2008

Company | Activity | Location | Date issued
Shell Offshore, Inc | Exploration | Open water seismic | July 7, 2008.
ASRC Energy Services | Exploration | Marine Survey Program | July 15, 2008.
ConocoPhillips Alaska, Inc | Exploration | Marine Survey Program | July 22, 2008.

Dated: September 17, 2008.
Thomas O. Melius,
Regional Director.

[FR Doc. E8-24517 Filed 10-14-08; 8:45 am]

BILLING CODE 4310-55-P